DEPARTMENT OF COMMERCE

International Trade Administration

[C-423-809]

Stainless Steel Plate in Coils From Belgium: Extension of Time Limit for Preliminary Results of the Countervailing Duty Administrative Review

AGENCY: Import Administration, International Trade Administration, Department of Commerce.

DATES: Effective Date: December 29, 2010.

FOR FURTHER INFORMATION CONTACT: Mary Kolberg at (202) 482-1785 or David Neubacher at (202) 482-5823; AD/CVD Operations, Office 1, Import Administration, International Trade Administration, U.S. Department of Commerce, 14th Street and Constitution Avenue, NW., Washington, DC 20230.

SUPPLEMENTARY INFORMATION:

Background

On June 30, 2010, the Department of Commerce (“the Department”) published a notice of initiation of administrative review of the countervailing duty order on stainless steel plate in coils from Belgium, covering the period January 1, 2009, through December 31, 2009. See Initiation of Antidumping and Countervailing Duty Administrative Reviews and Requests for Revocation in Part, 75 FR 37759, 37763 (June 30, 2010). The preliminary results of this administrative review are currently due no later than January 31, 2011.

Statutory Time Limits

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limit for Preliminary Results

The Department requires additional time to review, analyze, and verify submitted information and to issue supplemental questionnaires. Therefore, it is not practicable to complete this review within the originally anticipated time limit, and the Department is extending the time limit for completion of the preliminary results by 120 days to no later than May 31, 2011, in accordance with section 751(a)(3)(A) of the Act. Accordingly, the deadline for completion of the preliminary results is now no later than May 31, 2011.

We are issuing and publishing this notice in accordance with sections 751(a)(3)(A) and 777(i)(1) of the Act.

Dated: December 21, 2010.
Christian Marsh,
Deputy Assistant Secretary for Antidumping and Countervailing Duty Operations.

[FR Doc. 2010-32863 Filed 12-28-10; 8:45 am]

BILLING CODE 3510-DS-P